DEPARTMENT OF THE INTERIOR

National Indian Gaming Commission

25 CFR Parts 502 and 546

Class II Definitions and Game Classification Standards; Withdrawal

AGENCY: National Indian Gaming Commission.

ACTION: Notice of withdrawal of proposed regulations.

SUMMARY: The purpose of this document is to notify the public that the National Indian Gaming Commission is withdrawing the proposed regulations published in the Federal Register on May 25, 2006 (71 FR 30232, 71 FR 30238).

FOR FURTHER INFORMATION CONTACT: John Hay at 202/632-7003; fax 202/632-7066 (these are not toll-free numbers).

SUPPLEMENTARY INFORMATION: Congress established the National Indian Gaming Commission (NIGC or Commission) under the Indian Gaming Regulatory Act of 1988 (25 U.S.C. 2701 et seq.) (IGRA) to regulate gaming on Indian lands. On May 25, 2006, proposed Class II definitions and game classification standards were published in the Federal Register (71 FR 30232, 71 FR 30238). After receiving extensive comment, and after many consultations with tribal governments and tribal regulators, the Commission anticipates significant revisions to any proposed rule. As such, the Commission has decided to withdraw the current proposed rule and may publish a new proposed rule at a later date.

Dated: February 9, 2007.
Philip N. Hogen,
Chairman, National Indian Gaming Commission.

[FR Doc. E7-2621 Filed 2-14-07; 8:45 am]

BILLING CODE 7565-01-P